DEPARTMENT OF THE INTERIOR

Bureau of Land Management

DEPARTMENT OF AGRICULTURE

Forest Service

[CA-668-07-1220-PA-251A]

Monument Advisory Committee Scheduled Meeting Location Change

AGENCIES: Bureau of Land Management, Interior and Forest Service, USDA.

ACTION: Notice.

SUMMARY: The Bureau of Land Management (BLM) and the United States Forest Service (USFS) announce a change of meeting location for the December 2, 2006 scheduled meeting of the Santa Rosa and San Jacinto Mountains National Monument Advisory Committee (hereinafter referred to as “MAC”).

The meeting is scheduled to begin at 9 a.m. at the Mountain Station of the Palm Springs Aerial Tramway, One Tramway Road, Palm Springs, California 92262. A special FREE Tram, leaving promptly at 8:45 a.m., is being provided for all MAC members, the media and members of the public interested in attending and speaking during the Public Comment period.

The focus of MAC meetings is implementation of the Santa Rosa and San Jacinto Mountains National Monument Management Plan. Members of the public and the media are encouraged to attend and participate in MAC meetings. The Public Comment period begins at 11 a.m. A sign-up sheet for speakers will be available at the entrance of the meeting room on the day of the meeting. Speakers are requested to hold their comments to five minutes. Speakers may provide a written copy of their remarks and any additional remarks for inclusion in the meeting minutes.

An agenda will be posted on the Santa Rosa and San Jacinto Mountains National Monument Home Page at http://www.blm.gov/ca/palmsprings/santarosa/srsj_meetings.html, along with any other additional information for this meeting.

All National Monument meetings are open to the public with attendance limited only by the space available. Individuals attending who need special assistance, such as sign language interpretations or other reasonable accommodations, should notify the contact person listed below at least two weeks in advance of the meeting.

DATES: December 2, 2006; Free Tram ride departs the Valley Station of the Palm Springs Aerial Tramway at 8:45 a.m.; meeting begins at 9 a.m.; Public Comment period begins at 11 a.m.

ADDRESSES: December 2, 2006 meeting is being held at the Mountain Station of the Palm Springs Aerial Tramway, One Tramway Road, Palm Springs, California 92262.

FOR FURTHER INFORMATION CONTACT: Written comments should be sent to the Santa Rosa and San Jacinto Mountains National Monument Manager, in-care-of the Bureau of Land Management, P.O. Box 581260, North Palm Springs, CA 92258; by telephone (760) 251-4800, fax (760) 251-4899; or e-mail ca_srsj_nm@ca.blm.gov. Additional information regarding the National Monument and the MAC is posted on the National Monument Web pages located at: http://www.ca.blm.gov/palmsprings/santarosa/santa_rosa_national_monument.html.

Documents pertinent to this notice, including comments with the names and addresses of respondents, will be available for public review at the BLM Palm Springs-South Coast Field Office, 690 W. Garnet Avenue, North Palm Springs, California, during regular business hours 8 a.m. to 4:30 p.m., Monday through Friday, except for holidays.

SUPPLEMENTARY INFORMATION: Santa Rosa and San Jacinto Mountains National Monument was established to preserve nationally significant biological, cultural, recreational, geological, educational and scientific values found in the Santa Rosa and San Jacinto Mountains.

The MAC is a committee of volunteer citizens appointed to advise the Secretaries of the Interior and Agriculture with respect to implementation of the National Monument Management Plan. The Santa Rosa and San Jacinto Mountains National Monument Act of 2000 (16 U.S.C. 431 note) authorized establishment of the MAC.

The 272,000-acre National Monument encompasses 86,400 acres of Bureau of Land Management lands; 64,400 acres of Forest Service lands; 23,000 acres of Agua Caliente Band of Cahuilla Indians lands; 8,500 acres of California Department of Parks and Recreation lands; 35,800 acres of other State of California lands; and 53,900 acres of privately owned lands.

Dated: September 12, 2006.
Gail Acheson,
Field Manager, Bureau of Land Management, Palm Springs-South Coast Field Office.
Dated: September 21, 2006.
Laurie Rosenthal,
District Ranger, USDA Forest Service, San Jacinto Ranger District, San Bernardino National Forest.
Dated: September 25, 2006.
Jim Foote,
Monument Manager, Santa Rosa and San Jacinto Mountains, National Monument.

[FR Doc. 06-8417 Filed 10-2-06; 8:45 am]

BILLING CODE 4310-40-P